DEPARTMENT OF THE INTERIOR

Bureau of Land Management

[OR-912-6320-AA; GP3-0094]

Resource Advisory Committees; Call for Nominations

AGENCY: Bureau of Land Management, Interior.

ACTION: Notice of a call for nominations for alternate positions to the Bureau of Land Management (BLM) Resource Advisory Committees (Committees) provided for in Section 205 of the Secure Rural Schools and Community Self-Determination Act of 2000, Public Law 106-393 (the Act).

SUMMARY: This purpose of this notice is to solicit nominations for vacant alternate positions to the BLM's Coos Bay, Eugene, Medford and Roseburg Resource Advisory Committees. In accordance with the Committee Charters, the role of an alternate is to fill vacancies that occur when a primary member leaves the Committee. Public nominations will be considered for 30 days after the publication date of this notice.

The BLM Resource Advisory Committee vacancies are as follows:

Coos Bay Resource Advisory Committee

Category One—2 alternates

Category Three—2 alternates

Eugene Resource Advisory Committee

Category One—1 alternate

Category Two—1 alternate

Medford Resource Advisory Committee

Category One—1 alternate

Roseburg Resource Advisory Committee

Category One—1 alternate

Category Two—1 alternate

Category Three—1 alternate

DATES: Nomination applications for alternate positions to the BLM Resource Advisory Committees can be obtained from the Coos Bay, Eugene, Medford, Salem and Roseburg District Office, or on the web at www.or.blm.gov/planning/advisory. All applications must be received by the appropriate BLM District office listed below no later than 30 days after publication of this notice. All nominations must include letters of reference from represented interests of organizations and a completed application that includes background information, as well as any other information that speaks to the nominee's qualifications.

BLM Resource Advisory Committee Contacts

Coos Bay Resource Advisory Committee

Sue Richardson, District Manager, 1300 Airport Lane, North Bend, Oregon 97459, (541) 756-0100

Eugene Resource Advisory Committee

Wayne Elliot, Resource Management Advisor, 2890 Chad Drive, Eugene, Oregon 97408-7336, (541) 683-6600

Medford Resource Advisory Committee

Mary Smelcer, Acting District Manager, 3040 Biddle Road, Medford, Oregon 97504, (541) 618-2200

Roseburg District Resource Advisory Committee

Cary Osterhaus, District Manager, 777 NW Garden Valley Blvd., Roseburg, Oregon 97470, (541) 440-4913

FOR FURTHER INFORMATION CONTACT: Maya Fuller, Oregon/Washington Bureau of Land Management, Oregon State Office, PO Box 2965, Portland, Oregon 97208, (503) 808-6437.

SUPPLEMENTARY INFORMATION: The Secure Rural Schools and Community Self-Determination Act of 2000 establishes a five-year payment schedule to local counties in lieu of funds formerly derived from the harvest of timber on federal lands. Pursuant to the Act, BLM established five Communities for western Oregon BLM districts that contain O&C grant lands and Coos Bay Wagon Road grant lands. Committees' consists of 15 local citizens, plus 6 alternates, representing a wide array of interests.

The Act creates a mechanism for local community collaboration with federal land management activities in the selection of projects to be conducted on federal lands or that will benefit resources on federal lands using funds under Title II of the Act. Committee members review proposed projects and transmit their recommendations on these projects to the agency.

Committee membership must be balanced in terms of the categories of interest represented. Members serve without monetary compensation, but will be reimbursed for travel and per diem when on Committee business, as authorized by 5 U.S.C. 5703. Prospective members and alternates are advised that serving on a Resource Advisory Committee calls for a substantial commitment of time and energy.

Any individual or organization may nominate one or more persons to serve on the Committees. Individuals may also nominate themselves or others. Nominees must reside within one of the counties that are (in whole or part) within the BLM District boundaries of the Committee(s) on which membership is sought. A person may apply for and serve on more than one Committee. Nominees will be evaluated based on their education, training, and experience relating to land use issues and knowledge of the geographical area of the Committee. Nominees must also demonstrate a commitment to collaborative resource decision-making.

You may make nominations for the following categories of interest:

Category One—representatives of organized labor; developed outdoor recreation; off-highway vehicle use; energy and/or mining development; timber industry; or holders of federal grazing permits.

Category Two—representatives of nationally, regionally or locally recognized environmental organizations; dispersed recreation, archaeological and historic interests; or wild horse and burro groups.

Category Three—State, county or local elected officials; representatives of Native American Tribes; school officials or teachers, or the public-at-large.

The BLM Resource Advisory Committees are based on western Oregon BLM District boundaries. Specifically, the BLM Committees are as follows:

Salem District Resource Advisory Committee advises officials on projects associated with federal lands within the Salem District boundary which includes Benton, Clackamas, Clatsop, Columbia, Lane, Lincoln, Linn, Marion, Multnomah, Polk, Tillamook, Washington, and Yamhill Counties.

Eugene District Resource Advisory Committee advises federal officials on projects associated with federal lands within the Eugene District boundary. The area covers Benton, Douglas, Lane, and Linn Counties.

Roseburg District Resource Advisory Committee advises federal officials on projects associated with federal lands within the Roseburg District boundary which includes Douglas, Lane, and Jackson Counties.

Medford District Resource Advisory Committee advises federal officials on projects associated with federal lands within the Medford District and Klamath Falls Resource Area in the Lakeview District. The area covers Coos, Curry, Douglas, Jackson, and Josephine Counties, and small portions of west Klamath County.

Coos Bay District Resource Advisory Committee advises federal officials on projects associated with federal lands within the Coos Bay District which includes Coos, Curry, Douglas, and Lane Counties.

Dated: February 19, 2003.
Cathy Harris,
Public Affairs Chief, Oregon/Washington Bureau of Land Management.

[FR Doc. 03-4346 Filed 2-24-03; 8:45 am]

BILLING CODE 4310-33-M